ENVIRONMENTAL PROTECTION AGENCY

[ER-FRL-9028-5]

Environmental Impact Statements; Notice of Availability

Responsible Agency: Office of Federal Activities, General Information (202) 564-7146 or http://www.epa.gov/nepa.

Weekly receipt of Environmental Impact Statements (EISs)

Filed 08/01/2016 Through 08/05/2016

Pursuant to 40 CFR 1506.9.

Notice: Section 309(a) of the Clean Air Act requires that EPA make public its comments on EISs issued by other Federal agencies. EPA's comment letters on EISs are available at: http://www.epa.gov/compliance/nepa/eisdata.html.

EIS No. 20160183, Final, USFS, CO, Arapahoe Basin Ski Area Projects, Review Period Ends: 09/19/2016, Contact: Matthew Ehrman 970-945-3212.

EIS No. 20160184, Draft, DOC, 00, Programmatic—Central Region of the Nationwide Public Safety Broadband Network, Comment Period Ends: 10/11/2016, Contact: Robert Scinta 202-870-3923.

EIS No. 20160185, Draft, BLM, CO, Gunnison Sage-Grouse Rangewide Resource Management Plan Amendment, Comment Period Ends: 11/10/2016, Contact: Bridget Clayton 970-244-3045.

Dated: August 9, 2016.
Dawn Roberts,
Management Analyst, NEPA Compliance Division, Office of Federal Activities.

[FR Doc. 2016-19247 Filed 8-11-16; 8:45 am]

BILLING CODE 6560-50-P